FEDERAL COMMUNICATIONS COMMISSION

47 CFR Part 25

[IB Docket No. 06-154; FCC 12-116]

2006 Biennial Regulatory Review

AGENCY: Federal Communications Commission.

ACTION: Correcting amendments.

SUMMARY: The Federal Communications Commission published a document in the Federal Register at 78 FR 8417, on February 6, 2013, revising Commission rules. That document inadvertently caused the e-CFR to revert to a former version of a paragraph, which had been revised by a document published the previous day, at 78 FR 8230, February 5, 2013. This document corrects the final rules by restoring the paragraph to the revised provision as published on February 5, 2013.

DATES: Effective May 14, 2014.

FOR FURTHER INFORMATION CONTACT: Cindy Spiers, Satellite Division, International Bureau, Federal Communications Commission, Washington, DC 20554, at (202) 418-1593 or via email at Cindy.Spiers@fcc.gov.

SUPPLEMENTARY INFORMATION: This is the second set of corrections. The first set of corrections was published in the Federal Register at 78 FR 29062, February 17, 2013. This document augments the corrections which were published in the Federal Register at 78 FR 29062, February 17, 2013.

List of Subjects in 47 CFR Part 25

Satellites and telecommunications.

Accordingly, 47 CFR part 25 is corrected by making the following corrective amendments:

PART 25—SATELLITE COMMUNICATIONS

1. The authority citation for part 25 continues to reads as follows:

Authority: Interprets or applies sections 4, 301, 302, 303, 307, 309, 319, 332, 705, and 721 of the Communications Act, as amended, 47 U.S.C. 154, 301, 302, 303, 307, 309, 319, 332, 605, and 721, unless otherwise noted.

2. In § 25.149, revise the section heading and paragraph (a)(1) introductory text to read as follows:

§ 25.149 Application requirements for ancillary terrestrial components in Mobile-Satellite Service networks operating in the 1.5./1.6 GHz and 1.6/2.4 GHz Mobile-Satellite Service.

(a) * * *

(1) ATC shall be deployed in the forward-band mode of operation whereby the ATC mobile terminals transmit in the MSS uplink bands and the ATC base stations transmit in the MSS downlink bands in portions of the 1626.5-1660.5 MHz/1525-1559 MHz bands (L-band) and the 1610-1626.5 MHz/2483.5-2500 MHz bands.

Note to paragraph (a)(1): * * *

* * * * *

Federal Communications Commission.
Marlene H. Dortch,
Secretary.

[FR Doc. 2014-11071 Filed 5-13-14; 8:45 am]

BILLING CODE 6712-01-P